DEPARTMENT OF TRANSPORTATION

Federal Aviation Administration

14 CFR Part 95

[Docket No. 31300; Amdt. No. 551]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum enroute authorized IFR altitude is prescribed. This regulatory action is needed because of changes occurring in the National Airspace System. These changes are designed to provide for the safe and efficient use of the navigable airspace under instrument conditions in the affected areas.

DATES: Effective 0901 UTC, March 26, 2020.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on February 21, 2020.
Rick Domingo,
Executive Director, Flight Standards Service.

Adoption of the Amendment

Accordingly, pursuant to the authority delegated to me by the Administrator, part 95 of the Federal Aviation Regulations (14 CFR part 95) is amended as follows effective at 0901 UTC, January 30, 2020.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 551 effective date March 26, 2020]
From | To | MEA | MAA
§ 95.3000 Low Altitude RNAV Routes
§ 95.3200 RNAV Route T200 is Added to Read
COLLEGE STATION, TX VORTAC | SEALY, TX FIX | 2100 | 17500
SEALY, TX FIX | MOLLR, TX WP | 2000 | 17500
MOLLR, TX WP | SABINE PASS, TX VOR/DME | 3100 | 17500
§ 95.3220 RNAV Route T220 is Added to Read
INDUSTRY, TX VORTAC SEALY, TX FIX | 2100 | 17500
SEALY, TX FIX MOLLR, TX WP | 2000 | 17500
MOLLR, TX WP SABINE PASS, TX VOR/DME | 3100 | 17500
§ 95.3224 RNAV Route T224 is Added to Read
PALACIOS, TX VORTAC MOLLR, TX WP | 2500 | 17500
MOLLR, TX WP BEAUMONT, TX VOR/DME | 2100 | 17500
BEAUMONT, TX VOR/DME LAKE CHARLES, LA VORTAC | 1700 | 17500
§ 95.3256 RNAV Route T256 is Added to Read
SAN ANTONIO, TX VORTAC | EAGLE LAKE, TX VOR/DME | 3000 | 17500
EAGLE LAKE, TX VOR/DME | MOLLR, TX WP | 2400 | 17500
MOLLR, TX WP | SABINE PASS, TX VOR/DME | 3100 | 17500
§ 95.4000 High Altitude RNAV Routes
§ 95.4024 RNAV Route Q24 is Amended by Adding
SAN ANTONIO, TX VORTAC | MOLLR, TX WP | * 18000 | 45000
* 18000—GNSS MEA
* DME/DME/IRU MEA
MOLLR, TX WP | LAKE CHARLES, LA VORTAC | * 18000 | 45000
* 18000—GNSS MEA
* DME/DME/IRU MEA
§ 95.4056 RNAV Route Q56 is Amended by Adding
SAN ANTONIO, TX VORTAC | MOLLR, TX WP | * 18000 | 45000
* 18000—GNSS MEA
* DME/DME/IRU MEA
MOLLR, TX WP | PEKON, LA FIX | * 18000 | 45000
* 18000—GNSS MEA
* DME/DME/IRU MEA
PEKON, LA FIX | HARVEY, LA VORTAC | * 18000 | 45000
* 18000—GNSS MEA
* DME/DME/IRU MEA
HARVEY, LA VORTAC | SEMMES, AL VORTAC | * 18000 | 45000
* 18000—GNSS MEA |
* DME/DME/IRU MEA
SEMMES, AL VORTAC | CATLN, AL FIX | * 18000 | 45000
* 18000—GNSS MEA
* DME/DME/IRU MEA
Is Amended to Read in Part
CATLN, AL FIX | KELLN, SC WP | * 18000 | 45000
* 18000—GNSS MEA
* DME/DME/IRU MEA
§ 95.4150 RNAV Route Q150 is Amended to Read in Part
GANNE, WY WP | DDRTH, WY WP | * 24000 | 45000
* 18000—GNSS MEA
* DME/DME/IRU MEA
DDRTH, WY WP | YAMPA, CO WP | * 24000 | 45000
* 18000—GNSS MEA
* DME/DME/IRU MEA

From | To | MEA
§ 95.6001 Victor Routes—U.S.
§ 95.6004 VOR Federal Airway V4 is Amended to Read in Part
PAYET, ID FIX | * EMETT, ID FIX SE BND NW BND | 5900 9000
* 9400—MRA
EMETT, ID FIX | BOISE, ID VORTAC | 5900
BOISE, ID VORTAC | CANEK, ID FIX NW BND SE BND | 7000 9500
§ 95.6015 VOR Federal Airway V15 is Amended to Delete
HOBBY, TX VOR/DME | NAVASOTA, TX VOR/DME | 2100
§ 95.6020 VOR Federal Airway V20 is Amended to Delete
PALACIOS, TX VORTAC | * MAGUS, TX FIX | 1800
* 3000—MRA
MAGUS, TX FIX | KEEDS, TX FIX | 1700
KEEDS, TX FIX | HOBBY, TX VOR/DME | 2500
HOBBY, TX VOR/DME | BEAUMONT, TX VOR/DME | 2100
§ 95.6026 VOR Federal Airway V26 is Amended to Read in Part
GREEN BAY, WI VORTAC | NEROE, WI FIX | #3000
#GREEN BAY R-115 TO YULNU UNUSABLE EXCEPT FOR AIRCRAFT EQUIPPED WITH SUITABLE RNAV SYSTEM WITH GPS.
WELKO, MI FIX | WHITE CLOUD, MI VOR/DME | #4000
#WHITE CLOUD R-303 TO YULNU UNUSABLE EXCEPT FOR AIRCRAFT EQUIPPED WITH SUITABLE RNAV SYSTEM WITH GPS.
§ 95.6055 VOR Federal Airway V55 is Amended to Read in Part
WHALL, MI FIX | NEROE, WI FIX | #* 5000
* 2400—MOCA
#MUSKEGON R-328 TO YULNU UNUSABLE EXCEPT AIRCRAFT EQUIPPED WITH SUITABLE RNAV SYSTEM WITH GPS.
NEROE, WI FIX | GREEN BAY, WI VORTAC | #3000
#GREEN BAY R-115 TO YULNU UNUSABLE EXCEPT AIRCRAFT EQUIPPED WITH SUITABLE RNAV SYSTEM WITH GPS.
§ 95.6068 VOR Federal Airway V68 is Amended to Delete
INDUSTRY, TX VORTAC | SEALY, TX FIX | 2100
SEALY, TX FIX | HOBBY, TX VOR/DME | 2000
§ 95.6076 VOR Federal Airway V76 is Amended to Delete
INDUSTRY, TX VORTAC | SEALY, TX FIX | 2100
SEALY, TX FIX | HOBBY, TX VOR/DME | 2000
§ 95.6148 VOR Federal Airway V148 is Amended to Delete
GOPHER, MN VORTAC | ALEEN, WI FIX | * 5000
* 2700—MOCA
ALEEN, WI FIX | HAYWARD, WI VOR/DME | 000
HAYWARD, WI VOR/DME | * IRONWOOD, MI VOR/DME | 10000
* 5200—MCA IRONWOOD, MI | VOR/DME, SW BND
§ 95.6159 VOR Federal Airway V159 is Amended to Read in Part
PECAN, GA VOR/DME | * SHANY, GA FIX | 2200
* 4000—MRA
SHANY, GA FIX | EUFAULA, AL VORTAC | 2200
§ 95.6170 VOR Federal Airway V170 is Amended to Read in Part
ODESA, MD FIX | SWANN, MD FIX | #
#UNUSABLE
SWANN, MD FIX | PALEO, MD FIX | #
#UNUSABLE
§ 95.6177 VOR Federal Airway V177 is Amended to Delete
JOLIET, IL VOR/DME | NUELG, IL FIX | 2700
NUELG, IL FIX | JANESVILLE, WI VOR/DME | * 4000
* 2300—MOCA
JANESVILLE, WI VOR/DME | MADISON, WI VORTAC | 3000
MADISON, WI VORTAC | WAUSAU, WI VORTAC |
WAUSAU, WI VORTAC | BAITS, WI FIX |
BAITS, WI FIX | HAYWARD, WI VOR/DME |
HAYWARD, WI VOR/DME | DULUTH, MN VORTAC |
DULUTH, MN VORTAC | ELY, MN VOR/DME | 3600
§ 95.6187 VOR Federal Airway V187 is Amended to Read in Part
CURLY, NM FIX | MISSY, NM FIX | 11000
MISSY, NM FIX | RATTLESNAKE, NM VORTAC NW BND SE BND | 9100 11000
BILLINGS, MT VORTAC | TASSE, MT FIX NW BND SE BND | 8000 6200
TASSE, MT FIX | * JUGAP, MT FIX | 8000
* 11200—MCA | JUGAP, MT FIX, NW BND
JUGAP, MT FIX | GREAT FALLS, MT VORTAC | 13000
§ 95.6193 VOR Federal Airway V193 is Amended to Read in Part
MUSKY, MI FIX | PULLMAN, MI VOR/DME | #* 3000
* 2000—MOCA
#PULLMAN R-243 UNUSABLE EXCEPT FOR AIRCRAFT EQUIPPED WITH SUITABLE RNAV SYSTEM WITH GPS.
PULLMAN, MI VOR/DME | CLOCK, MI FIX | #* 3000
* 2400—MOCA
#PULLMAN R-029 UNUSABLE EXCEPT FOR AIRCRAFT EQUIPPED WITH SUITABLE RNAV SYSTEM WITH GPS.
CLOCK, MI FIX | WHITE CLOUD, MI VOR/DME | #2800
#WHITE CLOUD R-169 TO CLOCK UNUSABLE EXCEPT FOR AIRCRAFT EQUIPPED WITH SUITABLE RNAV SYSTEM WITH GPS.
WHITE CLOUD, MI VOR/DME | TRAVERSE CITY, MI VOR/DME | #4000
#WHITE CLOUD R-007 UNUSABLE TO COP EXCEPT FOR AIRCRAFT EQUIPPED WITH SUITABLE RNAV SYSTEM WITH GPS.
§ 95.6194 VOR Federal Airway V194 is Amended to Delete
COLLEGE STATION, TX VORTAC | PRARI, TX FIX | * 7000
* 2000—MOCA
* 2000—GNSS MEA
PRARI, TX FIX | * SEALY, TX FIX | ** 7000
* 7000—MCA SEALY, TX | FIX, NW BND
** 3500—MOCA
** 3500—GNSS MEA
SEALY, TX FIX | HOBBY, TX VOR/DME | 2000
HOBBY, TX VOR/DME | SABINE PASS, TX VOR/DME | 3000
§ 95.6198 VOR Federal Airway V198 is Amended to Delete
EAGLE LAKE, TX VOR/DME | BLUMS, TX FIX | 2000
BLUMS, TX FIX | HOBBY, TX VOR/DME | 2000
HOBBY, TX VOR/DME | SABINE PASS, TX VOR/DME | 3000
§ 95.6214 VOR Federal Airway V214 is Amended to Read in Part
SWANN, MD FIX | ODESA, MD FIX | #
#UNUSABLE
§ 95.6253 VOR Federal Airway V253 is Amended to Read in Part
CANEK, ID FIX | * BOISE, ID VORTAC NW BND SE BND | 7000 9500
* 7500—MCA BOISE, ID | VORTAC, N BND
BOISE, ID VORTAC | BANGS, ID FIX S BND N BND | 9100 10500
BANGS, ID FIX | DONNELLY, ID VOR/DME | 10500
§ 95.6285 VOR Federal Airway V285 is Amended to Read in Part
CLOCK, MI FIX | WHITE CLOUD, MI VOR/DME | #2800
#WHITE CLOUD R-169 TO CLOCK UNUSABLE EXCEPT FOR AIRCRAFT EQUIPPED WITH SUITABLE RNAV SYSTEM WITH GPS.
WHITE CLOUD, MI VOR/DME | MANISTEE, MI VOR/DME | #4000
#WHITE CLOUD R-332 TO MANISTEE UNUSABLE EXCEPT FOR AIRCRAFT EQUIPPED WITH SUITABLE RNAV SYSTEM WITH GPS.
#MANISTEE R-156 TO WHITE CLOUD UNUSABLE EXCEPT FOR AIRCRAFT EQUIPPED WITH SUITABLE RNAV SYSTEM WITH GPS.
MANISTEE, MI VOR/DME | TRAVERSE CITY, MI VOR/DME | #2800
#MANISTEE R-057 TO COP UNUSABLE EXCEPT FOR AIRCRAFT EQUIPPED WITH SUITABLE RNAV SYSTEM WITH GPS.
§ 95.6330 VOR Federal Airway V330 is Amended to Read in Part
BOISE, ID VORTAC | CANEK, ID FIX NW BND SE BND | 7000 9500
§ 95.6345 VOR Federal Airway V345 is Amended to Delete
EAU CLAIRE, WI VORTAC | HAYWARD, WI VOR/DME | * 5200
* 3100—MOCA
* 4000—GNSS MEA
§ 95.6369 VOR Federal Airway V369 is Amended to Delete
NAVASOTA, TX VOR/DME | GROESBECK, TX VOR/DME | 2300
GROESBECK, TX VOR/DME | MAVERICK, TX VOR/DME | 3600
§ 95.6375 VOR Federal Airway V375 is Amended to Read in Part
ROANOKE, VA VOR/DME | PROSE, VA FIX E BND W BND | 6500 5400
§ 95.6433 VOR Federal Airway V433 is Amended to Read in Part
NOTTINGHAM, MD VORTAC | SWANN, MD FIX | #
#UNUSABLE
SWANN, MD FIX | ODESA, MD FIX | #
#UNUSABLE
§ 95.6444 VOR Federal Airway V444 is Amended to Read in Part
PAYET, ID FIX | * EMETT, ID FIX SE BND NW BND | 5900 9000
* 9400—MRA
EMETT, ID FIX | * BOISE, ID VORTAC | 5900
* 7400—MCA BOISE, ID | VORTAC, E BND
§ 95.6445 VOR Federal Airway V445 is Amended to Read in Part
SWANN, MD FIX | ODESA, MD FIX | #
#UNUSABLE
§ 95.6548 VOR Federal Airway V548 is Amended to Delete
HOBBY, TX VOR/DME | * SEALY, TX FIX | 2000
* 7000—MCA SEALY, TX FIX, NW BND
SEALY, TX FIX | PRARI, TX WP | * 7000
* 3500—MOCA
* 3500—GNSS MEA
PRARI, TX WP | COLLEGE STATION, TX VORTAC | * 7000
* 2000—MOCA
* 2000—GNSS MEA
§ 95.6558 VOR Federal Airway V558 is Amended to Delete
EAGLE LAKE, TX VOR/DME | BLUMS, TX WP | 2000
BLUMS, TX WP | HOBBY, TX VOR/DME | 2400

From | To | MEA | MAA
§ 95.7001 Jet Routes
§ 95.7037 Jet Route J37 is Amended to Delete
HOBBY, TX VOR/DME | HARVEY, LA VORTAC | 18000 | 45000
§ 95.7051 Jet Route J51 is Amended to Read in Part
NOTTINGHAM, MD VORTAC | PALEO, MD FIX | #
#UNUSABLE
PALEO, MD FIX | DUPONT, DE VORTAC | #
#UNUSABLE
§ 95.7138 Jet Route J138 is Amended to Delete
SAN ANTONIO, TX VORTAC | HOBBY, TX VOR/DME | 18000 | 45000
HOBBY, TX VOR/DME | LAKE CHARLES, LA VORTAC | 18000 | 45000
§ 95.7177 Jet Route J177 is Amended to Delete
HUMBLE, TX VORTAC | HOBBY, TX VOR/DME | 18000 | 45000
HOBBY, TX VOR/DME | PALACIOS, TX VORTAC | 18000 | 45000
§ 95.7502 Jet Route J502 is Amended to Delete
BURWASH, CA NDB | NORTHWAY, AK VORTAC # | * 18000 | 45000
#FOR THAT AIRSPACE OVER U.S. TERRITORY.

Airway segment: From | Airway segment: To | Changeover points | Distance | From
§ 95.8005 Jet Routes Changeover Points
SISTERS ISLAND, AK VORTAC | BURWASH, CA NDB | 80 | SISTERS ISLAND
J511 is Amended to Delete Changeover Point
GULKANA, AK VOR/DME | BURWASH, CA NDB | 55 | GULKANA
Is Amended to Modify Changeover Point
TOVAD, FIX | GULKANA, AK VOR/DME | 76 | TOVAD
V15 is Amended to Delete Changeover Point
HOBBY, TX VOR/DME | NAVASOTA, TX VOR/DME | 38 | HOBBY
V20 is Amended to Delete Changeover Point
PALACIOS, TX VORTAC | HOBBY, TX VOR/DME | 41 | PALACIOS
V148 is Amended to Delete Changeover Point
GOPHER, MN VORTAC | HAYWARD, WI VOR/DME | 65 | GOPHER
Is Amended to Delete Changeover Point
HAYWARD, WI VOR/DME | IRONWOOD, MI VOR/DME | 20 | HAYWARD
V177 is Amended to Delete Changeover Point
JOLIET, IL VOR/DME | JANESVILLE, WI VOR/DME | 40 | JOLIET
V285 is Amended to Delete Changeover Point
WHITE CLOUD, MI VOR/DME | MANISTEE, MI VOR/DME | 28 | WHITE CLOUD

[FR Doc. 2020-04416 Filed 3-5-20; 8:45 am]

BILLING CODE 4910-13-P